DEPARTMENT OF HEALTH AND HUMAN SERVICES

Centers for Disease Control and Prevention

[30Day-06-05AO]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 639-4766 or send an e-mail to omb@cdc.gov. Send written comments to CDC Desk Officer, Office of Management and Budget, Washington, DC or by fax to (202) 395-6974. Written comments should be received within 30 days of this notice.

Proposed Project

Health Communication Planning, Implementation, and Evaluation for People with Disabilities—New—National Center on Birth Defects and Developmental Disabilities (NCBDDD), Centers for Disease Control and Prevention (CDC).

Background and Brief Description

The National Center on Birth Defects and Developmental Disabilities (NCBDDD) at CDC promotes the health of babies, children, and adults with disabilities. As part of these efforts the Center is actively involved in improving the health and wellness of people with disabilities. Of particular interest is how health information is communicated to people with disabilities. This project involves the conduct of an e-mail survey for an initiative evaluating the effectiveness of health communication materials and strategies developed for people with disabilities by North Carolina, New Mexico, and New York with the support of health promotion grants from CDC. The survey data will be analyzed to evaluate awareness of the state-developed materials among health care providers, human services providers and consumer advocates using these materials, their impressions of and satisfaction with the materials, the impact of the materials, and suggestions for improvement. Data will be collected using an on-line self-reporting survey distributed via e-mail and administered by linking to a web-based questionnaire. The results will be used to develop a training handbook to assist state agencies and public health officials in planning, developing, and implementing health communication materials for people with disabilities. There are no costs to respondents except their time to participate in the survey. The total estimated annualized burden hours are 45.

Estimate of Annualized Burden Hours
Type of respondents | No. of respondents | No. of responses per respondent | Average burden per response (in hours)
Health Care Providers | 50 | 1 | 18/60
Human Services Providers | 50 | 1 | 18/60
Consumer Advocates | 50 | 1 | 18/60

Dated: November 18, 2005.
Betsey Dunaway,
Acting Reports Clearance Officer, Centers for Disease Control and Prevention.

[FR Doc. E5-6671 Filed 11-28-05; 8:45 am]

BILLING CODE 4163-18-P